DEPARTMENT OF AGRICULTURE

Animal and Plant Health Inspection Service

[Docket No. APHIS-2011-0091]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of the international standard-setting activities of the World Organization for Animal Health, the Secretariat of the International Plant Protection Convention, and the North American Plant Protection Organization, and we are soliciting public comment on the standards to be considered.

ADDRESSES: You may submit comments by either of the following methods:

• Federal eRulemaking Portal: Go to http://www.regulations.gov/#!documentDetail;D=APHIS-2011-0091-0001.

• Postal Mail/Commercial Delivery: Send your comment to Docket No. APHIS-2011-0091, Regulatory Analysis and Development, PPD, APHIS, Station 3A-03.8, 4700 River Road, Unit 118, Riverdale, MD 20737-1238.

Supporting documents and any comments we receive on this docket may be viewed at http://www.regulations.gov/#!docketDetail;D=APHIS-2011-0091 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: For general information on the topics covered in this notice, contact Mr. John Greifer, Associate Deputy Administrator for SPS Management, International Services, APHIS, room 1132, USDA South Building, 14th Street and Independence Avenue, SW., Washington, DC 20250; (202) 720-7677.

For specific information regarding standard-setting activities of the World Organization for Animal Health, contact Dr. Michael David, Director, International Animal Health Standards Team, National Center for Import and Export, VS, APHIS, 4700 River Road, Unit 33, Riverdale, MD 20737-1231; (301) 734-5324.

For specific information regarding the standard-setting activities of the International Plant Protection Convention or the North American Plant Protection Organization, contact Ms. Julie E. Aliaga, Program Director, International Phytosanitary Standards, PPQ, APHIS, 4700 River Road, Unit 140, Riverdale, MD 20737-1236; (301) 734-0763.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties) regarding animal health and welfare, and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 178 Members, each of which is represented by a delegate who, in most cases, is the chief veterinary officer of that country or territory. The WTO has recognized the OIE as the international forum for setting animal health and welfare standards, reporting global animal disease events, and presenting guidelines and recommendations on sanitary measures relating to animal health.

The OIE facilitates intergovernmental cooperation to prevent the spread of contagious diseases in animals by sharing scientific research among its Members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Members for certain diseases, categorizes animal diseases with respect to their international significance, publishes bulletins on global disease status, and provides animal disease control guidelines to Members. Various OIE commissions and working groups undertake the development and preparation of draft standards, which are then circulated to Members for consultation (review and comment). Draft standards are revised accordingly and are then presented to the OIE World Assembly of Delegates (all the Members) during the General Session, which meets annually every May, for review and adoption. Adoption, as a general rule, is based on consensus of the OIE membership.

The next OIE General Session is scheduled for May 20-25, 2012, in Paris, France. Currently, the Deputy Administrator for APHIS' Veterinary Services program is the official U.S. Delegate to the OIE. The Deputy Administrator for APHIS' Veterinary Services program intends to participate in the proceedings and will discuss or comment on APHIS' position on any standard up for adoption. Information about OIE draft Terrestrial and Aquatic Animal Health Code chapters may be found on the Internet at http://www.aphis.usda.gov/import_export/animals/oie/ or by contacting Dr. Michael David (see FOR FURTHER INFORMATION CONTACT above).

OIE Terrestrial and Aquatic Animal Health Code Chapters and Appendices Adopted by the May 2011 General Session

Over 50 Code chapters were amended, rewritten, or newly proposed and presented for adoption at the General Session. The following Code chapters are of particular interest to the United States:

1. Glossary

Several Code chapter definitions were modified, rewritten, or deleted. Modified or rewritten definitions include the definitions for “euthanasia,” “veterinary legislation,” and “wildlife”.

2. Chapter 1.1, Notification of Diseases and Epidemiological Information

The change in the text of this chapter helps to clarify the reporting responsibilities of a Member with respect to a given notifiable disease.

3. Chapter 6.4, Biosecurity Procedures in Poultry Production

The text in this chapter was modified for clarity and completeness in content.

4. Chapter 6.5, Zoning and Compartmentalization, and Chapter 4.4, Application of Compartmentalization

The text in these chapters was modified for clarity in content. No substantive changes were made to these chapters.

5. Chapter 6.5, Prevention, Detection and Control of Salmonella in Poultry

The terms “farm” and “establishment” were removed and replaced with “flock.”

6. Chapter 8.1, Anthrax

The changes in the text of this chapter included the procedures for inactivation of B. anthracis spores in animal products.

7. Chapter 8.2, Aujeszky's Disease

The text in this chapter was modified to make it consistent with the structure of other chapters, update the definition of the disease and clarify what is meant by affected populations.

8. Chapter 8.5, Foot and Mouth Disease (FMD)

The text in this chapter was modified to allow for the option of OIE endorsement of a Member's official FMD control or eradication program.

9. Chapter 8.15, Vesicular Stomatitis

A list of safe commodities that can be traded regardless of a country's vesicular stomatitis status was incorporated into the chapter.

10. Chapter 10.4, Avian Influenza

Minor changes were made to this chapter to improve clarity.

11. Chapter 10.13, Newcastle Disease

The text in this chapter was modified to revise the time-temperature parameters for inactivation of Newcastle disease virus in poultry meat.

12. Chapter 12.6, Equine Influenza

The text in this chapter was modified for clarity.

The following Aquatic Code chapters are of particular interest to the United States:

1. Manual Chapter 2.1.1., Batrachochytrium Dendrobatidis

This is a new chapter proposed for adoption in 2011.

2. Chapter 6.3., Principles for Responsible and Prudent use of Anti-Microbia Agents in Aquatic Animals

Minor changes were made to this chapter to improve clarity.

3. Chapter 8.2., Infection With Ranavirus

Conditions are defined to allow unrestricted international trade in untested animal products from countries, zones or compartments not declared free of Ranavirus.

OIE Terrestrial Animal Health Code Chapters and Appendices for Future Review

Existing Terrestrial Animal Health Code chapters that may be further revised and new chapters that may be drafted in preparation for the next General Session in 2012 include the following:

• Chapter 1.2, Criteria for listing diseases.

• Chapter 6.5, Prevention, Detection and Control of Salmonella in Poultry.

• Chapter 8.6, Aujesky's disease.

• Chapter 8.10, Rabies.

• Chapter 8.12, Rinderpest.

• Chapter 11.3, Bovine brucellosis.

• Chapter 12.1, African horse sickness.

• Chapter 15.2, Classical swine fever.

• Chapter 15.4, Swine Vesicular Disease.

• Chapter X.X.X, Animal Welfare and Broiler Chicken Production. (This proposed chapter that focuses on establishing standard commercial poultry production practices was not adopted to allow for further Member consultations.)

• Chapter X.X.X. Animal Welfare and Beef Production. (This will be a new proposed chapter on standard practices for commercial beef production.)

OIE Terrestrial Animal Health Standards Commission Future Work Program

During the next few years, the OIE Terrestrial Animal Commission may address the following issues or establish ad hoc groups of experts to update or develop standards for the following issues:

• Diseases of Honey Bees and Hygiene and disease security procedures in apiaries.

• Epizootic Hemorrhagic Disease.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is under the authority of the Food and Agriculture Organization (FAO), and the members of the Secretariat of the IPPC are appointed by the FAO. The IPPC is implemented by national plant protection organizations (NPPOs) in cooperation with regional plant protection organizations (RPPOs); the Commission on Phytosanitary Measures (CPM, formerly referred to as the International Commission on Phytosanitary Measures); and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment in October 2005. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the IPPC are described below.

Step 1: Proposals for a new international standard for phytosanitary measures (ISPM) or for the review or revision of an existing ISPM are submitted to the Secretariat of the IPPC in a standardized format on a 2-year cycle. Alternatively, the Secretariat can propose a new standard or amendments to existing standards.

Step 2: After review by the Standards Committee and the Strategic Planning and Technical Assistance Working Group, a summary of proposals is submitted by the Secretariat to the CPM. The CPM identifies the topics and priorities for standard setting from among the proposals submitted to the Secretariat and others that may be raised by the CPM.

Step 3: Specifications for the standards identified as priorities by the CPM are drafted by the Standards Committee. The draft specifications are subsequently made available to members and RPPOs for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the CPM for adoption.

Step 7: The ISPM is established through formal adoption by the CPM according to Rule X of the Rules of Procedure of the CPM.

Step 8: Review of the ISPM is completed by the specified date or such other date as may be agreed upon by the CPM.

Each member country is represented on the CPM by a single delegate. Although experts and advisors may accompany the delegate to meetings of the CPM, only the delegate (or an authorized alternate) may represent each member country in considering a standard up for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee. In addition, documents and positions developed by APHIS and NAPPO have been sources of significant input for many of the standards adopted to date. This notice describes each of the IPPC standards currently under consideration or up for adoption. The full text of each standard will be available on the Internet at http://www.aphis.usda.gov/import_export/plants/plant_exports/phyto_international_standards.shtml. Interested individuals may review the standards posted on this Web site and submit comments via the Web site.

The next CPM meeting is scheduled for March 26-30, 2012, at FAO Headquarters in Rome, Italy. The Deputy Administrator for APHIS' PPQ program is the U.S. delegate to the CPM. The Deputy Administrator intends to participate in the proceedings and will discuss or comment on APHIS' position on any standards up for adoption. The agenda for the Fifth Session of the Commission of Phytosanitary Measures is as follows:

1. Opening of the session.

2. Adoption of the agenda.

3. Election of the Rapporteur.

4. Report by the CPM chairperson.

5. Report by the Secretariat.

6. Report of the technical consultation among RPPOs.

7. Report of observer organizations.

8. Goal 1: A robust international standard-setting and implementation program.

9. Goal 2: Information exchange systems appropriate to meet IPPC obligations.

10. Goal 3: Effective dispute settlement systems.

11. Goal 4: Improved phytosanitary capacity of members.

12. Goal 5: Sustainable implementation of the IPPC.

13. Goal 6: International promotion of the IPPC and cooperation with relevant regional and international organizations.

14. Goal 7: Review of the status of plant protection in the world.

15. Election of the Bureau.

16. Membership of CPM subsidiary bodies.

17. Calendar.

18. Other business.

19. Date and venue of the next meeting.

20. Adoption of the report.

It is expected that the following standards will be sufficiently developed to be considered by the CPM for adoption at its 2012 meeting. The United States, represented by the Deputy Administrator for APHIS' PPQ program, will participate in consideration of these standards. The U.S. position on each of these issues will be developed prior to the CPM session and will be based on APHIS' analysis, information from other U.S. Government agencies, and relevant scientific information from interested stakeholders.

1. Integrated measures for plants for planting in international trade. This standard outlines the main criteria for the identification and application of integrated measures for the production and international movement of plants for planting (excluding seeds) as a pathway. It provides guidance to help identify and manage pest risks associated with plants for planting.

2. Systems approach for pest risk management of fruit flies (Diptera: Tephritidae). This standard provides guidelines for the development, implementation, and verification of integrated measures in a systems approach for pest risk management of fruit flies (Tephritidae) of economic importance.

New Standard-Setting Initiatives, Including Those in Development

A number of expert working group meetings or other technical consultations will take place during 2011 and 2012 on the topics listed below. These standard-setting initiatives are under development and may be considered for future adoption. APHIS intends to participate actively and fully in each of these working groups. The U.S. position on each of the topics to be addressed by these various working groups will be developed prior to these working group meetings and will be based on APHIS' technical analysis, information from other U.S. Government agencies, and relevant scientific information from interested stakeholders.

1. Establishment and maintenance of fruit fly quarantine areas within pest free areas in the event of an outbreak detection. This draft is proposed as an Annex to ISPM 26, Establishment of pest free areas for fruit flies (Tephritidae). It will provide guidance on the establishment and maintenance of regulated areas within pest free areas (PFA) when fruit fly outbreaks are detected. It will provide guidance on phytosanitary measures which are intended to protect other production areas and, as far as possible, will allow for the continuation of fruit and vegetables production, movement and handling, treatment, and shipping when some or all of the components of the export process are located in the regulated areas within the PFA.

2. Minimizing pest movement by sea containers and conveyances in international trade. The standard will provide guidance to NPPOs as to identifying particular pest risks associated with shipping containers as pathways in sea and overland transport between countries; identifying appropriate phytosanitary measures to mitigate such risks, in particular prior to export, including procedures for packing and cleaning of the interior and exterior of shipping containers, as well as inspection and measures related to the area surrounding packing, storage and loading locations; and identifying verification procedures. The purpose of this standard is to minimize the risk of quarantine pests moved as contaminants with shipping containers, irrespective of the cargo carried. The standard should provide guidance as to how appropriate pest risk management can be achieved with minimum impediment to efficient movement and management of shipping containers.

For more detailed information on the above topics, which will be addressed by various working groups established by the CPM, contact Ms. Julie E. Aliaga (see FOR FURTHER INFORMATION CONTACT above).

APHIS posts draft standards on the Internet (http://www.aphis.usda.gov/import_export/plants/plant_exports/phyto_international_standards.shtml) as they become available and provides information on the due dates for comments. Additional information on IPPC standards is available on the IPPC Web site at http://www.ippc.int/IPP/En/default.htm. For the most current information on official U.S. participation in IPPC activities, including U.S. positions on standards being considered, contact Ms. Julie E. Aliaga (see FOR FURTHER INFORMATION CONTACT above). Those wishing to provide comments on any of the areas of work being undertaken by the IPPC may do so at any time by responding to this notice (see ADDRESSES above) or by providing comments through Ms. Aliaga.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to Government and industry officials in Canada, the United States, and Mexico, who may suggest revisions. In the United States, draft standards are circulated to industry, States, and various government agencies for consideration and comment. The draft standards are posted on the Internet at http://www.aphis.usda.gov/import_export/plants/plant_exports/phyto_international_standards.shtml. Once revisions are made, the proposal is sent to the NAPPO Working Group and the NAPPO Standards Panel for technical reviews, and then to the Executive Committee for final approval, which is granted by consensus.

The annual NAPPO meeting is scheduled for October 17 to 21, 2011, in Merida, Yucatan, Mexico. The NAPPO Executive Committee meeting will take place on October 17, 2011. The Associate Deputy Administrator for PPQ is a member of the NAPPO Executive Committee. The Associate Deputy Administrator intends to participate in the proceedings and will discuss or comment on APHIS' position on any standard up for adoption or any proposals to develop new standards.

Below is a summary of current panel assignments as they relate to the ongoing development of NAPPO standards. The United States (i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at http://www.nappo.org or by contacting Ms. Julie E. Aliaga (see FOR FURTHER INFORMATION CONTACT above).

1. Accreditation Panel

The panel will perform an in-depth audit of the Mexican NPPO's adherence to Regional Standard for Phytosanitary Measures (RSPM) 9, “Authorization of laboratories for phytosanitary testing” and review the audit training program with a view to establish a harmonized approach for NAPPO countries.

2. Biological Control Panel

The panel will investigate possible biological control strategies for the Emerald Ash Borer; review the draft regional standard on “Guidelines for shipment of biological control agents among NAPPO countries” and, in collaboration with the Pest Risk Analysis panel, will assess the risks associated with the importation of bee pollen and royal jelly diverted for use in pollination and recommend management measures.

3. Citrus Panel

The panel will conclude sampling procedures for citrus propagative material for the detection of Huanglongbing (HLB) as part of the diagnostic procedure and organize a second international workshop on citrus quarantine pests. Subjects to be covered would include: HLB, citrus black spot, citrus leprosis, citrus canker, and citrus variegated chlorosis.

4. Electronic Phytosanitary Certification Panel

The panel will participate in the international development of electronic certification towards a functioning regional and global e-certification capability; finalize the review of the United Nations Centre for Trade Facilitation and Electronic Business (UN/CEFACT) data mapping, preparing data mapping for phytosanitary certificates; and consolidate previously developed documents into an e-certification technical guide to be further discussed with members of the international e-certification working groups.

5. Forestry Panel

The panel will work on completing the drafting of a standard for regulating the movement of wooden articles intended for indoor and outdoor use; complete the drafting of a standard on the movement of Christmas trees within the NAPPO region; deliver a workshop related to the import and export of Christmas trees within and from the NAPPO region; review and comment on forest-related international standards being developed by the IPPC, in particular a proposed standard on the international movement of wood. The panel will prepare a discussion paper reviewing the applicability of current standards for heat treatment of wood and wood packaging in relation to emerging information that certain insect species appear to be thermo-tolerant.

6. Fruit Panel

The panel will develop a strategy to mitigate the risk of introduction of Lobesia botrana into NAPPO countries, including measures to deal with a possible outbreak; determine appropriate phytosanitary measures against Drosophila suzukii for trade in products which are hosts; complete RSPM 34, “Guidelines to develop and apply phytosanitary protocol treatments for arthropod pests for fruits and vegetables,” and complete the technical advisory group documents on Rhagoletis and Tetranychus trapping.

7. Grains Panel

The panel will contribute to the organization (agenda and speakers) of the IPPC workshop on the international movement of grain, to be held in Canada in late 2011.

8. Invasive Species Panel

The panel will develop a pathway risk analysis standard with support from the PRA panel; complete the discussion paper describing NAPPO's role in invasive alien species including documentation of relevant Federal legislative authority for regulation of both terrestrial and aquatic plants in North America; and collaborate with the PRA panel to review the scientific literature on climate change and complete the discussion paper on its pertinence to the PRA process.

9. Pest Risk Analysis Panel

The panel will complete the discussion paper on the potential for climate change to affect the ability of pests to spread and establish in new areas, including the implications for the current PRA process, with assistance from the Invasive Species panel; assist the Biological Control panel by assessing the risks associated with importation of bee pollen into NAPPO countries; complete a discussion paper summarizing the risk associated with the movement of wooden articles intended for indoor and outdoor use; and complete the development of the PRA format including risk-ranking guidelines.

10. Phytosanitary Alert System (PAS) Panel

The panel will prepare a checklist of alert sources and ensure that all available sources are being utilized but not duplicated; coordinate outreach with other related Web sites and link them to the PAS; evaluate whether users are visiting the resources page on the PAS Web site and determine whether this page should continue to be maintained; post pest reports and alerts to the NAPPO PAS Web site and prepare guidelines for the development of pest alerts.

11. Plants for Planting

The panel will organize information exchange among Government and industry in NAPPO countries to encourage progress towards implementation of RSPM 24, “Integrated pest risk management measures for the importation of plants for planting into NAPPO member countries”; complete the pest list annexes; complete development of a protocol for hot water treatment of grapevines to control Phylloxera; and review and update RSPM 18, “Guidelines for phytosanitary action following detection of Plum Pox Virus.”

12. Potato Panel

The panel will develop a NAPPO diagnostic protocol for Ralstonia solanacearum Race 3 Biovar 2; develop a NAPPO discussion paper on the efficacy of potato sprout inhibitors; gather the most recent information potato virus Y and identify the strains of concern to the NAPPO region based on biological and economic factors; and complete the review of RSPM 3, “Guidelines for movement of potatoes into a NAPPO member country.”

13. Seeds Panel

The panel will complete the NAPPO regional standard on seed movement; continue to collaborate with COSAVE on North-South seed trade facilitation; support efforts in the development of an international standard for seed; and prepare an agenda and speakers for a symposium on seed movement for the 2011 NAPPO Annual meeting.

14. Standards Panel

The panel will coordinate the review of new and amended NAPPO standards, diagnostic and treatment protocols, and implementation plans; provide updates on NAPPO standards and ISPMs for the NAPPO Newsletter; maintain the NAPPO Glossary; and provide a formal description of responsibilities for the panel.

The PPQ Associate Deputy Administrator, as the official U.S. delegate to NAPPO, intends to participate in the adoption of these regional plant health standards, including the work described above, once they are completed and ready for such consideration.

The information in this notice contains all the information available to us on NAPPO standards currently under development or consideration. For updates on meeting times and for information on the working panels that may become available following publication of this notice, go to the NAPPO Web site on the Internet at http://www.nappo.org or contact Ms. Julie Aliaga (see FOR FURTHER INFORMATION CONTACT above). Information on official U.S. participation in NAPPO activities, including U.S. positions on standards being considered, may also be obtained from Ms. Aliaga. Those wishing to provide comments on any of the topics being addressed by any of the NAPPO panels may do so at any time by responding to this notice (see ADDRESSES above) or by transmitting comments through Ms. Aliaga.

Done in Washington, DC, this 14th day of October 2011.
Kevin Shea,
Acting Administrator, Animal and Plant Health Inspection Service.

[FR Doc. 2011-27174 Filed 10-19-11; 8:45 am]

BILLING CODE 3410-34-P